DEPARTMENT OF LABOR

Employment and Training Administration

[TA-W-82,221]

Plexus Corporation; Neenah Operations; Including On-Site Leased Workers From Kelly Services, Inc., Aerotek and Gold Star Solutions, Inc. Neenah, Wisconsin; Notice of Continuation of Certification

In accordance with Section 223 of the Trade Act of 1974, as amended (“Act”), 19 U.S.C. 2273, the Department of Labor issued a Certification of Eligibility to Apply for Worker Adjustment Assistance on April 5, 2013, applicable to workers of Plexus Corporation, Neenah Operations, Neenah, Wisconsin. The Department's Notice of Determination was published in the Federal Register on April 30, 2013 (78 FR 25306).

The Department of Labor issued an Amended Certification Regarding to Apply for Worker Adjustment Assistance on January 29, 2014 to include leased workers from Kelly Services, Inc., Aerotek and Gold Star Solutions, Inc. working on-site at Plexus Corporation, Neenah Operations, Neenah, Wisconsin. The Department's Notice of Amended Determination was published in the Federal Register on February 12, 2014 (79 FR 8505).

On August 8, 2014, the Department issued a Notice of Initiation of Investigation to Terminate Certification applicable to workers and former workers of Plexus Corporation, Neenah Operations, Neenah, Wisconsin. The Department's Notice of Initiation of Investigation to Terminate Certification was published in the Federal Register on August 22, 2014 (79 FR 49814).

The Department's original investigation revealed that Section 222(a)(1) had been met because a significant number or proportion of the workers in such workers' firm had become totally or partially separated, or were threatened to become totally or partially separated.

Section 222(a)(2)(B) had been met because the workers' firm had shifted to a foreign country the production of articles like or directly competitive with the articles produced by the subject firm which contributed importantly to worker group separations at Plexus Corporation, Neenah Operations, Neenah, Wisconsin.

The Department has completed its review of the certification for workers of the subject firm pursuant to 29 CFR 90.17(a). The investigation included data collected from the subject firm, a major customer of the subject firm, and the original petitioner.

The subject firm continues to be engaged in activities related to the production of printed circuit board assemblies.

The Department's review revealed that the shift in production to a foreign country that was the original basis for the certification has completed and that the subject firm is no longer shifting production of like or directly competitive articles to a foreign country.

The Department's review further revealed that the group eligibility criteria specified in Section 222 of the Trade Act of 1974, as amended by the Trade Adjustment Assistance Extension Act of 2011, continue to be met. The group eligibility requirements for workers of a firm under Section 222(a) of the Act, 19 U.S.C. 2272(a), are satisfied if the following criteria are met:

(1) A significant number or proportion of the workers in such workers' firm have become totally or partially separated, or are threatened to become totally or partially separated; and

(2)(A)(i) the sales or production, or both, of such firm have decreased absolutely; and

(ii)(I) imports of articles or services like or directly competitive with articles produced or services supplied by such firm have increased; and

(iii) the increase in imports described in clause (ii) contributed importantly to such workers' separation or threat of separation and to the decline in the sales or production of such firm.

Section 222(a)(1) has been met because a significant number or proportion of the workers in such workers' firm have become totally or partially separated, or are threatened to become totally or partially separated.

Section 222(a)(2)(A)(i) has been met because the sales and production of printed circuit board assemblies by Plexus Corporation have decreased absolutely.

Section 222(a)(2)(A)(ii) has been met because customer imports of articles like or directly competitive with the printed circuit board assemblies produced by Plexus Corporation have increased.

Finally, Section 222(a)(2)(A)(iii) has been met because the increased customer imports contributed importantly to the worker group separations and sales/production declines at Plexus Corporation.

Conclusion

After careful review of the facts, I affirm the certification of workers and former workers of Plexus Corporation, Neenah Operations, including on-site leased workers from Kelly Services, Inc., Aerotek, and Gold Star Solutions, Inc., Neenah, Wisconsin.

Signed at Washington, DC, this 12th day of December, 2014.
Michael W. Jaffe,
Certifying Officer, Office of Trade Adjustment Assistance.

[FR Doc. 2014-30163 Filed 12-23-14; 8:45 am]

BILLING CODE 4510-FN-P